DEPARTMENT OF ENERGY

Federal Energy Regulatory Commission

[Docket No. CP13-96-000]

Gulf South Pipeline Company, LP; Supplemental Notice of Intent To Prepare an Environmental Assessment for the Proposed Southeast Market Expansion Project and Request for Comments on Environmental Issues

As previously noticed on November 19, 2012, and supplemented herein, the staff of the Federal Energy Regulatory Commission (FERC or Commission) will prepare an environmental assessment (EA) that will discuss the environmental impact of the Southeast Market Expansion Project (SEME Project or Project) involving the construction and operation of facilities by Gulf South Pipeline Company, LP (Gulf South) in Jasper, Forrest, Perry, Greene, George, and Jackson Counties, Mississippi and Mobile County, Alabama. The Commission will use this EA in its decision-making process to determine whether the Project is in the public convenience and necessity. The Commission staff began its review of the Project on September 17, 2012, during the pre-filing process under Docket No. PF12-21-000. The initial scoping period closed on December 19, 2012.

This notice announces the opening of a supplemental scoping period that the Commission will use to gather input from the public and newly affected landowners due to Gulf South's proposed pipeline right-of-way route modifications and change in location of the Moss Point Compressor Station made after the initial scoping period. This notice is being sent as a supplement to the Notice of Intent to Prepare an Environmental Assessment for the Planned Southeast Market Expansion Project, Request for Comments on Environmental Issues, and Notice of Public Scoping Meetings (original NOI) issued November 19, 2012 to ensure that all stakeholders on the Commission's current environmental mailing list have been notified and provide the opportunity for newly affected landowners to comment on the Project. Your input will help the Commission staff determine what issues they need to evaluate in the EA. Please note that this supplemental scoping period will close on May 28, 2013. Further details on how to submit written comments are in the Public Participation section of this notice.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Summary of the Proposed Project (as supplemented)

As indicated in the original NOI, Gulf South plans to construct 70.1 miles of new 30-inch-diameter and 24-inch-diameter pipeline (approximately 42.3 miles and 27.8 miles, respectively), which would begin near the southern terminus of Petal Gas Storage, L.L.C.'s transmission facilities in Forrest County, Mississippi and end at Gulf South's existing Index 311 pipeline tie-in, approximately 4.5 miles west of Semmes, Alabama. In addition, Gulf South would construct 3 new compressor stations located in Forrest County, Jasper County, and Jackson County, Mississippi. The SEME Project would provide about 450 million standard cubic feet of natural gas per day to the Florida and Southeast markets via an interconnect with Florida Gas Transmission Company and a new high pressure interconnect with Gulf South's existing Index 311 pipeline. According to Gulf South, the Project is necessary to provide new natural gas transportation capacity to meet an increased level of gas supply in the region.

The proposed modifications consist of the following:

• A 4.5-mile-long variation in Perry County, Mississippi (MPs 18.7 to 23.2) that moved the pipeline alignment about 2,000 feet to the southwest;

• A 1.7-mile-long variation in Green County, Mississippi (MPs 27.9 to 29.6) that moved the pipeline alignment about 1,000 feet to the northeast;

• A 5.6-mile-long variation in George County, Mississippi (MPs 47.3 to 52.9) that moved the pipeline alignment more than 14,000 feet to the east;

• A 3.1-mile-long variation, also in George County (MPs 58.0 to 61.1), that moved the alignment about 2,000 feet to the south; and

• A change in location of the Moss Point Compressor Station site from the east to the west side of Highway 63 in Jackson County, Mississippi.

The general locations of the proposed modifications are shown in Appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the proposed facilities would disturb about 1,167 acres of land for the aboveground facilities, pipeline, and access roads. Following construction, Gulf South would maintain about 455 acres for permanent operation of the Project's facilities; the remaining acreage would be restored and revert to former uses. About 79 percent of the pipeline route would parallel existing pipeline, utility, or road rights-of-way.

The EA Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the scope of the issues to address in the EA. We will consider all filed comments during the preparation of the EA.

² “We,” “us,” and “our” refer to the environmental staff of the Commission's Office of Energy Projects.

In the EA we will discuss impacts that could occur as a result of the construction and operation of the planned Project under these general headings:

• Geology and soils;

• Land use;

• Water resources, fisheries, and wetlands;

• Cultural resources;

• Vegetation and wildlife;

• Air quality and noise;

• Endangered and threatened species;

• Socioeconomics; and

• Public safety.

We will also evaluate possible alternatives to the planned Project or portions of the Project, and make recommendations on how to lessen or avoid impacts on the various resource areas.

The EA will present our independent analysis of the issues. The EA will be available in the public record through eLibrary. Depending on the comments received during the scoping process, we may also publish and distribute the EA to the public for an allotted comment period. We will consider all comments on the EA before we make our recommendations to the Commission. To ensure we have the opportunity to consider and address your comments, please carefully follow the instructions in the Public Participation section below.

On December 20, 2012 Gulf South filed its draft resource reports for the Project. The FERC reviewed these draft reports and provided comments to Gulf South on February 15, 2013. Gulf South submitted its formal application, including the final resource reports, on March 8, 2013. We are now in the process of reviewing Gulf South's filed application and developing the EA in cooperation with the U.S. Department of the Interior Fish and Wildlife Service and the U.S. Army Corps of Engineers. A diagram illustrating the environmental review process is found in Appendix 2.

Consultations Under Section 106 of the National Historic Preservation Act

In accordance with the Advisory Council on Historic Preservation's implementing regulations for section 106 of the National Historic Preservation Act, we are using this notice to initiate consultation with applicable State Historic Preservation Offices (SHPOs), and to solicit their views and those of other government agencies, interested Indian tribes, and the public on the Project's potential effects on historic properties.³ We will define the Project-specific Area of Potential Effects (APE) in consultation with the SHPOs as the Project develops. On natural gas facility projects, the APE at a minimum encompasses all areas subject to ground disturbance (examples include construction right-of-way, contractor/pipe storage yards, compressor stations, and access roads). Our EA for this Project will document our findings on the impacts on historic properties and summarize the status of consultations under section 106.

³ The Advisory Council on Historic Preservation regulations are at Title 36, Code of Federal Regulations, Part 800. Those regulations define historic properties as any prehistoric or historic district, site, building, structure, or object included in or eligible for inclusion in the National Register of Historic Places.

Public Participation

You can make a difference by providing us with your specific comments or concerns about the Project. Your comments should focus on the potential environmental effects, reasonable alternatives, and measures to avoid or lessen environmental impacts. The more specific your comments, the more useful they will be. Landowners or other stakeholders who already submitted comments during pre-filing need not resubmit those comments. To ensure that your comments are timely and properly recorded, please send your comments so that the Commission receives them in Washington, DC on or before May 28, 2013.

For your convenience, there are three methods you can use to submit your comments to the Commission. In all instances, please reference the Project docket number (CP13-96-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the proposed Project.

Copies of the EA will be sent to the environmental mailing list for public review and comment. If you would prefer to receive a paper copy of the document instead of the CD version or would like to remove your name from the mailing list, please return the attached Information Request (Appendix 3).

Becoming an Intervenor

You may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the Project is available from the Commission's Office of External Affairs, at (866) 208-FERC, or on the FERC Web site (www.ferc.gov) using the eLibrary link. Click on the eLibrary link, click on “General Search” and enter the docket number, excluding the last three digits in the Docket Number field (i.e., CP13-96). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm. More information about the Project may also be found on Gulf South's Web site http://www.gulfsouthpl.com/ExpansionProjects.aspx?id=1589.

Dated: April 26, 2013.
Kimberly D. Bose,
Secretary.

[FR Doc. 2013-10612 Filed 5-3-13; 8:45 am]

BILLING CODE 6717-01-P